DEPARTMENT OF JUSTICE

Antitrust Division

Notice Pursuant to the National Cooperative Research and Production Act of 1993; National Warheads and Energetics Consortium

Notice is hereby given that, on November 13, 2012, pursuant to Section 6(a) of the National Cooperative Research and Production Act of 1993, 15 U.S.C. 4301 et seq. (“the Act”), National Warheads and Energetics Consortium (“NWEC”) has filed written notifications simultaneously with the Attorney General and the Federal Trade Commission disclosing changes in its membership. The notifications were filed for the purpose of extending the Act's provisions limiting the recovery of antitrust plaintiffs to actual damages under specified circumstances. Specifically, Energetics Technology Center, St. Charles, MD; Kranze Technology Solutions, Inc., Prospect Heights, IL; Meggitt (San Juan Capistrano), Inc., San Juan Capistrano, CA; TenCate Advanced Composites, Morgan Hill, CA; and Waltonen Engineering, Inc., Warren, MI, have been added as parties to this venture. Also, Ceramatec, Inc., Salt Lake City, UT; Manufacturing Techniques, Inc. (MTEQ), Kilmarnock, VA; Phillips Plastics Corporation, Hudson, WI; Synepsys Technologies Inc., Clearwater, FL; and The ENSER Corporation, Pinellas Park, FL, have withdrawn as a parties to this venture.

No other changes have been made in either the membership or planned activity of the group research project. Membership in this group research project remains open, and NWEC intends to file additional written notifications disclosing all changes in membership.

On May 2, 2000, NWEC filed its original notification pursuant to Section 6(a) of the Act. The Department of Justice published a notice in the Federal Register pursuant to Section 6(b) of the Act on June 30, 2000 (65 FR 40693).

The last notification was filed with the Department on August 7, 2012. A notice was published in the Federal Register pursuant to Section 6(b) of the Act on September 5, 2012 (77 FR 54611).

Patricia A. Brink,
Director of Civil Enforcement, Antitrust Division.

[FR Doc. 2012-29823 Filed 12-10-12; 8:45 am]

BILLING CODE P